NATIONAL TRANSPORTATION SAFETY BOARD

Sunshine Act Meeting

TIME AND DATE: 9:30 a.m., Tuesday, November 28, 2017

PLACE: NTSB Conference Center, 429 L'Enfant Plaza SW., Washington, DC 20594.

STATUS: The one item is open to the public.

MATTERS TO BE CONSIDERED:

57233 Highway Accident Report—Agricultural Labor Bus and Truck-Tractor Collision at US-98-SR-363 Intersection Near St. Marks, Florida, July 2, 2016.

NEWS MEDIA CONTACT: Telephone: (202) 314-6100.

The press and public may enter the NTSB Conference Center one hour prior to the meeting for set up and seating.

Individuals requesting specific accommodations should contact Rochelle McCallister at (202) 314-6305 or by email at Rochelle.McCallister@ntsb.gov by Wednesday, November 22, 2017.

The public may view the meeting via a live or archived webcast by accessing a link under “News & Events” on the NTSB home page at www.ntsb.gov.

Schedule updates, including weather-related cancellations, are also available at www.ntsb.gov.

FOR MORE INFORMATION CONTACT: Candi Bing at (202) 314-6403 or by email at bingc@ntsb.gov.

FOR MEDIA INFORMATION CONTACT: Terry Williams at (202) 314-6100 or by email at terry.williams@ntsb.gov.

Dated: November 1, 2017.
Candi R. Bing,
Federal Register Liaison Officer.

[FR Doc. 2017-24133 Filed 11-2-17; 11:15 am]

BILLING CODE 7533-01-P